DEPARTMENT OF ENERGY

Senior Executive Service; Performance Review Board

AGENCY: U.S. Department of Energy.

ACTION: Designation of PRB Chair.

SUMMARY: This notice designates the Performance Review Board Chair for the Department of Energy.

EFFECTIVE DATE: The appointment is effective as of September 30, 2000.

Performance Review Board Chair

David L. Hamer, Department of Energy.

Issued in Washington, DC October 26, 2000.
David M. Klaus,
Director of Management and Administration.

[FR Doc. 00-28159 Filed 11-1-00; 8:45 am]

BILLING CODE 6450-01-P